DEPARTMENT OF LABOR

Occupational Safety and Health Administration

[Docket No. NRTL1-89]

Intertek Testing Services, NA, Inc.; Expansion of Recognition

AGENCY: Occupational Safety and Health Administration (OSHA), Labor.

ACTION: Notice.

SUMMARY: This notice announces the Agency's final decision on the application of Intertek Testing Services, NA, Inc. (ITSNA), for expansion of its recognition to use an additional site.

EFFECTIVE DATE: This recognition becomes effective on January 28, 2002 and, unless modified in accordance with 29 CFR 1910.7, continues in effect while ITSNA remains recognized by OSHA as an NRTL.

FOR FURTHER INFORMATION CONTACT: Bernard Pasquet, Office of Technical Programs and Coordination Activities, NRTL Program, Occupational Safety and Health Administration, U.S. Department of Labor, 200 Constitution Avenue, NW., Room N3653, Washington, DC 20210, or phone (202) 693-2110.

SUPPLEMENTARY INFORMATION:

Notice of Final Decision

The Occupational Safety and Health Administration (OSHA) hereby gives notice of the expansion of recognition of Intertek Testing Services, NA, Inc. (ITSNA), as a Nationally Recognized Testing Laboratory (NRTL). ITSNA's expansion covers the use of an additional site. The NRTL's scope of recognition may be found in the following informational Web page: http://www.osha-slc.gov/dts/otpca/nrtl/its.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on an application. These notices set forth the NRTL's scope of recognition or modifications of this scope.

OSHA published the notice of its preliminary findings on the expansion request in the Federal Register (see 66 FR 55208, November 1, 2001). The notice requested submission of any public comments by November 16, 2001. OSHA received no comments concerning the application. ITSNA had submitted its application for recognition of the Stockholm site in February 1997 (see Exhibit 35), and in the November 1 preliminary notice we explain the delay in processing the application. The NRTL Program staff performed the on-site review (assessment) of the facility on September 24-25, 1998, and provided a positive recommendation on the expansion in their report (see Exhibit 36).

The most recent notice published by OSHA for ITSNA's recognition, prior to the November 1 preliminary notice, covered its renewal of recognition, which OSHA granted on May 29, 2001 (66 FR 29178).

OSHA is recognizing the additional ITSNA site listed below. This site may use the supplemental programs included under ITSNA's scope of recognition. However, recognition of this site is limited to performing testing to the test standards for which OSHA has recognized ITSNA, and for which the site has the proper capability and control programs. This treatment is consistent with the recognition that OSHA has granted to other NRTLs that operate multiple sites.

Under its current operations as an NRTL, ITSNA authorizes the use of the “ETL” certification mark or certifications only from its Cortland location. In addition, only the Vancouver, Antioch, and Madison sites identified below authorize the use of the “WHI” (Warnock Hersey) certification mark or certifications. Therefore, OSHA currently does not recognize any other ITSNA site, including the Stockholm site, for certifying products under ITSNA's NRTL operations.

You may obtain or review copies of all public documents pertaining to the application by contacting the Docket Office, Occupational Safety and Health Administration, U.S. Department of Labor, 200 Constitution Avenue, NW., Room N2625, Washington, DC 20210. You should refer to docket No. NRTL 1-89, the permanent record of public information on the ITSNA recognition.

The current address of the additional ITSNA testing site recognized through this expansion of recognition is:

Intertek Testing Services NA Sweden AB, Box 1103, S-164 #22, Kista, Stockholm, Sweden

The current address of the ITSNA testing facilities already recognized by OSHA are:

ITSNA Antioch, 2200 Wymore Way, Antioch, California 94509

ITSNA Atlanta, 1950 Evergreen Blvd., Suite 100, Duluth, Georgia 30096

ITSNA Boxborough, 70 Codman Hill Road, Boxborough, Massachusetts 01719

ITSNA Cortland, 3933 U.S. Route 11, Cortland, New York 13045

ITSNA Los Angeles, 27611 LaPaz Road, Suite C, Laguna Niguel, California 92677

ITSNA Madison, 8431 Murphy Drive, Middleton, Wisconsin 53562

ITSNA Minneapolis, 7250 Hudson Blvd., Suite 100, Oakdale, Minnesota 55128

ITSNA San Francisco, 1365 Adams Court, Menlo Park, CA 94025

ITSNA Totowa, 40 Commerce Way, Unit B, Totowa, New Jersey 07512

ITSNA Vancouver, 211 Schoolhouse Street, Coquitlam, British Columbia, V3K 4X9 Canada

ITSNA Hong Kong, 2/F., Garment Centre, 576 Castle Peak Road, Kowloon, Hong Kong

ITSNA Taiwan, 14/F., Huei Fung Building, 27, Chung Shan North Road, Sec. 3, Taipei 10451, Taiwan

Existing Conditions

Currently, OSHA imposes certain conditions on its recognition of ITSNA. These conditions will apply also to the recognition of the Stockholm site. As mentioned in previous notices, these conditions apply solely to ITSNA's operations as an NRTL, and are in addition to any other condition that OSHA normally imposes in its recognition of an organization as an NRTL. These conditions are listed first under the “Conditions” section below.

In the preliminary notice, condition 2 below contained the ending phrase “including Compliance Design.” However, after publication of that notice, ITSNA informed OSHA that it has ceased operation of this unit, which it had owned. As a result, the condition below has been revised for this final notice to eliminate the reference to Compliance Design.

(1) ITSNA may perform safety testing for hazardous location products only at the specific ITSNA sites that OSHA has recognized, and that have been pre-qualified for such testing by the ITSNA Chief Engineer. In addition, all safety test reports for hazardous location products must undergo a documented review and approval at the Cortland testing facility by a test engineer qualified in hazardous location safety testing, prior to ITSNA's initial or continued authorization of the certifications covered by these reports.

(2) ITSNA may not test and certify any products for a client that is a manufacturer or vendor that is either owned in excess of 2% by ITSLtd or affiliated organizationally with ITSNA.

Final Decision and Order

The NRTL Program staff has examined the application, the assessor's report, and other pertinent information. Based upon this examination and the assessor's recommendation, OSHA finds that Intertek Testing Services NA, Inc., has met the requirements of 29 CFR 1910.7 for expansion of its recognition to include the above additional site subject to the limitations and conditions set forth in this notice. Pursuant to the authority in 29 CFR 1910.7, OSHA hereby expands the recognition of ITSNA, subject to these limitations and conditions.

Limitations

Recognition of Facilities

OSHA hereby expands the recognition of ITSNA to include the testing site in Stockholm, Sweden. Similar to other NRTLs that operate multiple sites, the Agency's recognition of any ITSNA testing site is limited to performing testing to the test standards for which OSHA has recognized ITSNA, and for which the site has the proper capability and control programs.

Conditions

ITSNA must also abide by the following conditions of the recognition, in addition to those already required by 29 CFR 1910.7:

ITSNA may perform safety testing for hazardous location products only at the specific ITSNA sites that OSHA has recognized, and that have been pre-qualified for such testing by the ITSNA Chief Engineer. In addition, all safety test reports for hazardous location products must undergo a documented review and approval at the Cortland testing facility by a test engineer qualified in hazardous location safety testing, prior to ITSNA's initial or continued authorization of the certifications covered by these reports;

ITSNA may not test and certify any products for a client that is a manufacturer or vendor that is either owned in excess of 2% by ITSLtd, or affiliated organizationally with ITSNA;

OSHA must be allowed access to ITSNA's facility and records for purposes of ascertaining continuing compliance with the terms of its recognition and to investigate as OSHA deems necessary;

If ITSNA has reason to doubt the efficacy of any test standard it is using under this program, it must promptly inform the test standard developing organization of this fact and provide that organization with appropriate relevant information upon which its concerns are based;

ITSNA must not engage in or permit others to engage in any misrepresentation of the scope or conditions of its recognition. As part of this condition, ITSNA agrees that it will allow no representation that it is either a recognized or an accredited Nationally Recognized Testing Laboratory (NRTL) without clearly indicating the specific equipment or material to which this recognition is tied, or that its recognition is limited to certain products;

ITSNA must inform OSHA as soon as possible, in writing, of any change of ownership, facilities, or key personnel, and of any major changes in its operations as an NRTL, including details;

ITSNA will meet all the terms of its recognition and will always comply with all OSHA policies pertaining to this recognition; and

ITSNA will continue to meet the requirements for recognition in all areas where it has been recognized.

Signed at Washington, DC, this 17th day of January, 2002.
John L. Henshaw,
Assistant Secretary.

[FR Doc. 02-1935 Filed 1-25-02; 8:45 am]

BILLING CODE 4510-26-P